FEDERAL COMMUNICATIONS COMMISSION

Notice of Public Information Collection(s) Being Reviewed by the Federal Communications Commission, Comments Requested

October 5, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 14, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0649.

Title: Sections 76.1601, Deletion or Repositioning of Broadcast Signals, 76.1619 Information on Subscriber Bills, 76.1708 Principal Headend.

From Number: N/A.

Type of Review: Extension of currently approved collection.

Respondents: Business or other for-profit entities.

Number of Respondents: 3300.

Estimated Time Per Response: 10 minutes to 40 hours.

Total Annual Costs: $6,000.

Needs and Uses: The Commission requires cable television system operators provide written notification to any broadcast television station at least 30-days prior to deleting or repositioning a station, or of a change in the designation of its principal headend. In addition, the Commission requires specific information on subscriber bills, and prescribes rules for inspection of public files.

OMB Control No.: 3060-0519.

Title: Rules and Regulations Implementing the Telephone Consumer Protection Act of 1991 (CC Docket No. 92-60).

Form No.: N/A.

Type of Review: Extension.

Respondents: Business or Other for Profit.

Number of Respondents: 30,000.

Estimated Time Per Response: 31.2 hours per response (avg).

Total Annual Burden: 936,000 hours.

Estimated Annual Reporting and Recordkeeping Cost Burden: $0.

Frequency of Response: Recordkeeping; Third party Disclosure.

Needs and Uses: 47 CFR Parts 64 and 68 contain procedures for avoiding unwanted telephone solicitation to residences, and to regulate the use of automatic telephone dialing systems, artificial or prerecorded voice messages, and telephone facsimile machines. The rules prohibit prerecorded message calls to residences absent an emergency or the prior express consent of the called party. The rules further require that telephone solicitors maintain and use company-specific lists of residential subscribers who request not to receive further telephone calls (company-specific do-not-call lists), thereby affording consumers the choice of which solicitors, if any, they will hear from by telephone. Telephone solicitors also are required to have a written policy for maintaining do-not-call lists, and are responsible for informing and training their personnel in the existence and use of such lists. Moreover, the rules require that those making telephone solicitations identify themselves to called parties, and that basic identifying information also be included in telephone facsimile transmissions. The Commission believes that the requirements are the best means of preventing unwanted telephone solicitations.

OMB Control No.: 3060-0653.

Title: Consumer Information-Posting by Aggregators—Sections 64.703(b) and (c).

Form No.: N/A.

Type of Review: Extension.

Respondents: Business or Other for Profit.

Number of Respondents: 56,200.

Estimated Time Per Response: Hours per response (avg).

Total Annual Burden: 206,566 end hours.

Estimated Annual Reporting and Recordkeeping Cost Burden: $0.

Frequency of Response: On occasion; Third party disclosure.

Needs and Uses: As required by 47 U.S.C. Section 226(c)(1)(A), 47 CFR Section 64.703(b) provides that aggregators, (providers of telephone to the public or transient users) must post in writing, on or near such phones, information about presubscribed operator services, rates, carrier access, and the FCC address to which consumers may direct complaints. Section 64.703(c) establishes a 30-day outer limit for updating the posted consumer information when an aggregator has changed the presubscribed operator service provider. Consumers will use this information to determine whether they wish to use the services of the identified operator service provider.

OMB Control No.: 3060-0848.

Title: Deployment of Wireline Services Offering Advanced Telecommunications Capability, CC Docket 98-147.

Form No.: N/A.

Type of Review: Extension.

Respondents: Business or Other for Profit.

Number of Respondents: 1750.

Estimated Time Per Response: 94.62 hours per response (avg).

Total Annual Burden: 165,600 hours.

Estimated Annual Reporting and Recordkeeping Cost Burden: $0.

Frequency of Response: On occasion; Annually; Recordkeeping; Third party Disclosure.

Needs and Uses: In the Fourth Report and Order issued in CC Docket No. 98-147, the Commission requires a certification of interstate traffic from certain collocating carriers and the provision of a detailed description of available collocation space from incumbent local exchange carriers in certain circumstances. The requirements implement section 706 of the Communications Act of 1934, as amended, to promote deployment of advanced services without significantly degrading the performance of other services.

OMB Control No.: 3060-0823.

Title: Pay Telephone Reclassification Memorandum Opinion and Order, CC Docket No. 96-128.

Form No.: N/A.

Type of Review: Extension.

Respondents: Business or Other for Profit.

Number of Respondents: 400.

Estimated Time Per Response: 111.75 hours per response (avg).

Total Annual Burden: 44,700 hours.

Estimated Annual Reporting and Recordkeeping Cost Burden: $480,000.

Frequency of Response: On occasion; Quarterly; Monthly; Annually; One-time; Recordkeeping; Third Party Disclosure.

Needs and Uses: In the Memorandum Opinion and Order (MO&O) issued in CC Docket No. 96-128, the Common Carrier Bureau clarified requirements established in the Payphone Orders for the provision of payphone-specific coding digits by local exchange carriers (LECs) and payphone service providers (PSPs), to interexchange carriers (IXCs). The MO&O clarified that only FLEX ANI complies with the requirements; required that LECs file tariffs to reflect FLEX ANI as a nonchargeable option to IXCs; required that LECs file tariffs to recover costs associated with implementing FLEX ANI; required that LEC provide IXCs information on payphones that provide payphone-specific coding digits for smart and dumb payphones; required that LECs provide IXCs and PSPs information on where FLEX ANI is available now, and when it is to be scheduled in the future; granted permission and certain waivers. The information disclosure rules and policies governing the payphone industry implement section 276 of the Communications Act of 1934, as amended.

Federal Communications Commission.
Magalie Roman Salas,
Secretary.

[FR Doc. 01-25760 Filed 10-12-01; 8:45 am]

BILLING CODE 6712-01-P